DEPARTMENT OF COMMERCE

International Trade Administration

[A-549-502]

Notice of Extension of Time Limit for Final Results of the Antidumping Duty Administrative Review of Certain Welded Carbon Steel Pipes and Tubes from Thailand

AGENCY: Import Administration, International Trade Administration, Department of Commerce.

EFFECTIVE DATE: August 11, 2000.

SUMMARY: The Department of Commerce (the Department) is extending the time limit for the final results of the 1998-1999 antidumping duty administrative review for the antidumping order on certain welded carbon steel pipes and tubes from Thailand. This review covers the period March 1, 1998, through February 28, 1999. The extension is made pursuant to section 751(a)(3)(A) of the Tariff Act of 1930, as amended by the Uruguay Round Agreements Act (hereinafter, “the Act”).

FOR FURTHER INFORMATION CONTACT: Javier Barrientos, AD/CVD Enforcement Office 7, Import Administration, International Trade Administration, U.S. Department of Commerce, 14th Street and Constitution Avenue, NW., Washington, DC 20230, telephone (202) 482-2243.

Postponement of Final Results

Under section 751(a)(3)(A) of the Act, the Department may extend the deadline for completion of an administrative review if it determines that it is not practicable to complete the review within the statutory time limit of 365 days. In the instant case, the Department has determined that it is not practicable to complete the review within the statutory time limit. See Memorandum from Richard O. Weible to Joseph A. Spetrini (August 2, 2000).

Because it is not practicable to complete this review within the time limits mandated by the Act (245 days from the last day of the anniversary month for preliminary results, 120 additional days for final results), in accordance with Section 751(a)(3)(A) of the Act, the Department is extending the time limit for the final results no later than October 4, 2000.

Dated: August 4, 2000.
Richard O. Weible,
Acting Deputy Assistant Secretary for AD/CVD Enforcement Group III.

[FR Doc. 00-20444 Filed 8-10-00; 8:45 am]

BILLING CODE 3510-DS-P